DEPARTMENT OF DEFENSE

Department of the Army

Record of Decision (ROD) for the Implementation of the Base Closure and Realignment (BRAC) 2005 Actions at Fort Monroe, VA

AGENCY: Department of the Army, DoD.

ACTION: Record of Decision.

SUMMARY: The Department of the Army announces the availability of the ROD, which summarizes the decision on how to implement property disposal in accordance with the Defense Base Closure and Realignment Act of 1990 (the Base Closure Act), Public Law 101-510, as amended, following the closure of Fort Monroe, Virginia.

The Army has decided to implement its preferred alternative of early transfer of surplus non-reverting federal property to other entities for reuse. Pursuant to the National Environmental Policy Act of 1969 (NEPA) and its implementing regulations, the Army prepared a Final Environmental Impact Statement (FEIS) that includes the evaluation of the environmental and socioeconomic impacts of disposing of surplus Federal property that does not revert to the Commonwealth of Virginia, and the implementation by others of reasonable, foreseeable reuse alternatives for the entire property. Under the early transfer alternative, the Army can transfer and dispose of non-reverting property for redevelopment before environmental remedial actions have been completed. This method of early disposal, allowable under Section 120(h)(3)(C) of the Comprehensive Environmental Response, Compensation and Liability Act (CERCLA), would defer the CERCLA covenant requirement to complete all necessary environmental cleanup prior to the transfer of the remediated property. In this way, parcels could become available for redevelopment and reuse sooner under this disposal alternative than under any other. The Governor of the Commonwealth of Virginia must concur with the deferral request for the non-reversionary property at Fort Monroe.

ADDRESSES: To obtain a copy of the ROD, contact Mr. Robert Reali, Fort Monroe BRAC Environmental Coordinator, Directorate of Public Works, 318 Cornog Lane, Fort Monroe, VA 23651-1110; via e-mail address at monr.post.nepapublic@us.army.mil; or via Web site at http://www.hqda.army.mil/acsim/brac/nepa_eis_docs.htm.

FOR FURTHER INFORMATION CONTACT: Mr. Rob Reali at (757) 788-5363.

SUPPLEMENTARY INFORMATION: The Fort Monroe Authority's (FMA) Reuse Plan provides the basis for the development of reasonable and foreseeable reuse scenarios evaluated in the FEIS. The FMA is the implementation authority for the redevelopment of Fort Monroe and will implement the Reuse Plan. The range of reuse alternatives evaluated in the FEIS encompasses reasonably foreseeable variations of the Reuse Plan and the results of this analysis were used by the Army in its decision regarding disposition of the property.

A Programmatic Agreement (PA) for the Closure and Disposal of Fort Monroe has been legally executed by the signing of authorized representatives of the Army, the Virginia State Historic Preservation Officer, the Advisory Council on Historic Preservation, the Commonwealth of Virginia, the Fort Monroe Federal Area Development Authority (now the FMA), and the National Park Service. Army obligations fully described in the PA are considered mitigations required under the National Historic Preservation Act. Specific mitigation measures the Army commits to perform or has completed are outlined in the ROD.

Dated: October 8, 2010.
Hershell E. Wolfe,
Acting Deputy Assistant Secretary of the Army (Environment, Safety and Occupational Health).

[FR Doc. 2010-26923 Filed 10-22-10; 8:45 am]

BILLING CODE 3710-08-P